DEPARTMENT OF THE INTERIOR

National Park Service

[NPS-WASO-NAGPRA-NPS0030596; PPWOCRADN0-PCU00RP14.R50000]

Notice of Inventory Completion: Denver Museum of Nature & Science, Denver, CO, and U.S. Department of Agriculture, Forest Service, Gila National Forest, Silver City, NM

AGENCY: National Park Service, Interior.

ACTION: Notice.

SUMMARY: The Denver Museum of Nature & Science and the U.S. Department of Agriculture, Forest Service, Gila National Forest (USFS Gila National Forest) have completed an inventory of human remains and associated funerary objects, in consultation with the appropriate Indian Tribes or Native Hawaiian organizations, and have determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Denver Museum of Nature & Science. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Denver Museum of Nature & Science at the address in this notice by September 10, 2020.

ADDRESSES: Stephen E. Nash, Director of Anthropology and Senior Curator of Archaeology, Denver Museum of Nature & Science, 2001 Colorado Blvd., Denver, CO 80205, telephone (303) 370-6056, email Stephen.Nash@dmns.org.

SUPPLEMENTARY INFORMATION: Notice is here given in accordance with the Native American Graves Protection and Repatriation Act (NAGPRA), 25 U.S.C. 3003, of the completion of an inventory of human remains and associated funerary objects, some of which are under the control of the Denver Museum of Nature & Science, Denver, CO, and some of which are under the control of the U.S. Department of Agriculture, Forest Service, Gila National Forest, Silver City, NM. The human remains and associated funerary objects were removed from Catron County, NM. The human remains of 49 individuals and 30 associated funerary objects were removed from private lands, and the human remains of five individuals were removed from Federal land belonging to the Gila National Forest.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Denver Museum of Nature & Science professional staff in consultation with representatives of the Hopi Tribe of Arizona; Pueblo of Acoma, New Mexico; Pueblo of Santa Clara, New Mexico; Pueblo of Zia, New Mexico; and the Zuni Tribe of the Zuni Reservation, New Mexico.

History and Description of the Remains

Between 1977 and 1993, human remains representing, at minimum, 54 individuals were removed from LA 3009 (a.k.a. the W.S. Ranch Site), LA 33704 (a.k.a. the Eva Faust Site), WS-5 (no known LA number), LA 29372 (a.k.a. WS-17 and HO Bar Site), LA 2949 (a.k.a. Apache Creek Pueblo), and LA 4437 (a.k.a. Devil's Park Pueblo) in Catron County, NM, during excavations by the University of Texas at Austin, under the direction of Dr. James Neely. Following excavation, these human remains and associated funerary objects were curated at the Texas Archaeological Research Laboratory (TARL) in Austin, TX. Since 2017, the Denver Museum of Nature & Science (DMNS) has had possession of the human remains and associated funerary objects removed during the excavations from private lands, and has had custody of the human remains removed during the excavations from Federal land belonging to the Gila National Forest. No known individuals were identified.

Site number LA 3099 (a.k.a. the WS Ranch Site, McKeen Site, and NM 5:9:2) is located on both private lands and Federal land belonging to the Gila National Forest. Made up of at least six masonry room blocks that surround two or more great kivas, arranged around a possible plaza, it was excavated by the University of Texas from 1977 to 1993. The human remains of 45 individuals and 30 associated funerary objects were collected from private lands belonging to the WS Ranch Site, and the human remains of one individual were collected from Federal land belonging to the Gila National Forest. The 30 associated funerary objects are three bone tools, eight chipped stone tools, two ground stone tools, two miscellaneous stone objects, three whole ceramic vessels, four cloth fragments, one twine fragment, one hide fragment, one shell bracelet, three shells, one matrix sample, and one pigment sample. Based upon material culture, architecture, and site organization, this site has been identified as an Upland Mogollon pithouse and pueblo community that was occupied ca. A.D. 600-1300.

Site number LA 33704 (a.k.a. the Eva Faust Site) is located on private lands. A Late Pithouse (A.D. 600-1000) to early Pueblo (A.D. 1000-1175) Reserve/Three Circle Phase site, it was partially excavated by the University of Texas in 1986. The human remains of one individual were collected from LA 33704. Based upon material culture, architecture, and site organization, the site has been identified as an Upland Mogollon pithouse and pueblo community that was occupied ca. A.D. 600-1175.

The WS-5 site is located on private lands. It was heavily damaged in the 1970s by looters, whose bulldozer cuts exposed the central masonry room block of a purported early Pueblo structure. The human remains of two individuals were recovered in 1986. Based on material culture, architecture, and site organization, this site has been identified as an Upland Mogollon pueblo community that was occupied ca. A.D. 1000-1175.

WS-17 (a.k.a. LA29372, the HO BAR site) is located on private lands. It is a Late Archaic/Early Pithouse period site. The human remains of one individual were collected. Based upon material culture, architecture, and site organization, the site has been identified as an Upland Mogollon pithouse community that was occupied ca. A.D. 600-1175.

LA2949 (a.k.a. Apache Creek Pueblo) is located on Federal land belonging to the Gila National Forest. It is an Early/Late Pueblo site containing numerous room blocks and a kiva component. The human remains of two individuals were collected. Based upon material culture, architecture, and site organization, Apache Creek Pueblo has been identified as an Upland Mogollon pueblo community that was occupied ca. A.D. 1100-1250.

LA4437 (a.k.a. Devil's Park Pueblo) is located on Federal land belonging to the Gila National Forest. It is an Early Pueblo site containing visible masonry room blocks and a kiva. The human remains of two individuals were collected. Based upon material culture, architecture, and site organization, Devil's Park Pueblo has been identified as an Upland Mogollon pueblo community that was occupied ca. A.D. 1100-1175.

Archeologists have used the term Upland Mogollon to define the archeological complex represented by the sites described in this notice. Material culture characteristics of these traditions include a temporal progression from earlier pit houses to later masonry pueblos, villages organized in room blocks of contiguous dwellings and associated with plazas, rectangular kivas, polished and painted decorated ceramics, unpainted corrugated ceramics, inhumation burials, cradleboard cranial deformation, grooved stone axes, and bone artifacts. Archeologists have observed strong similarities between these archeological groups and present-day Puebloan Tribes. The similarities in ceramic traditions, burial practices, architectural forms, and settlement patterns have led archeologists to believe the prehistoric inhabitants of the Mogollon Rim region migrated north and west to the Hopi mesas and north and east to the Zuni River Valley. Certain objects found in Upland Mogollon archeological sites strongly resemble ritual paraphernalia used by Puebloan Tribes in continuing religious practices.

Based on their material culture, architecture, and organizational structure, WS Ranch Site, Eva Faust Site, WS-5, WS-17, Apache Creek Pueblo, and Devil's Park Pueblo have been identified as Upland Mogollon masonry pueblo and pithouse complexes that were occupied between ca. A.D. 200 and 1300. Continuities between ethnographic and archeological materials, Native American oral traditions, geography, and expert opinion, support the determination by the Denver Museum of Nature & Science and the U.S. Department of Agriculture, Forest Service, Gila National Forest, that the 54 individuals and 30 associated funerary objects in this notice are culturally affiliated with all 24 Puebloan tribes in the American Southwest.

Determinations Made by the Denver Museum of Nature & Science and the U.S. Department of Agriculture, Forest Service, Gila National Forest

Officials of the Denver Museum of Nature & Science and the U.S. Department of Agriculture, Forest Service, Gila National Forest have determined that:

• Pursuant to 25 U.S.C. 3001(9), the human remains described in this notice represent the physical remains of 54 individuals of Native American ancestry.

• Pursuant to 25 U.S.C. 3001(3)(A), the 30 objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona; Kewa Pueblo, New Mexico (previously listed as Pueblo of Santo Domingo); Ohkay Owingeh, New Mexico (previously listed as Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as Ysleta Del Sur Pueblo of Texas); and the Zuni Tribe of the Zuni Reservation, New Mexico (hereafter referred to as “The Tribes”).

Additional Requestors and Disposition

Lineal descendants or representatives of any Indian Tribe or Native Hawaiian organization not identified in this notice that wish to request transfer of control of these human remains and associated funerary objects should submit a written request with information in support of the request to Stephen E. Nash, Director of Anthropology and Senior Curator of Archaeology, Denver Museum of Nature & Science, 2001 Colorado Blvd., Denver, CO 80205, telephone (303) 370-6056, email Stephen.Nash@dmns.org, by September 10, 2020. After that date, if no additional requestors have come forward, transfer of control of the human remains and associated funerary objects to The Tribes may proceed.

The Denver Museum of Nature & Science and the U.S. Department of Agriculture, Forest Service, Gila National Forest are responsible for notifying The Tribes that this notice has been published.

Dated: July 7, 2020.
Melanie O'Brien,
Manager, National NAGPRA Program.

[FR Doc. 2020-17486 Filed 8-10-20; 8:45 am]

BILLING CODE 4312-52-P